MORRIS K. UDALL AND STEWART L. UDALL FOUNDATION

Agency Information Collection Activities: Proposed Collection; Comment Request

AGENCY: Morris K. Udall and Stewart L. Udall Foundation.

ACTION: Notice of request for public comment and submission to OMB of proposed collection of information.

SUMMARY: The Morris K. Udall and Stewart L. Udall Foundation (Udall Foundation) submitted the Information Collection Request (ICR) described below to the Office of Management and Budget (OMB) for approval. In accordance with the Paperwork Reduction Act, the agency is requesting comments on this information collection from all interested individuals and organizations. The purpose of this notice is to allow 30 days for public comment.

DATES: Interested persons are invited to submit comments on or before November 21, 2024.

ADDRESSES: Written comments and recommendations for the proposed information collection should be submitted within 30 days of publication of this notice to www.reginfo.gov/public/do/PRAMain. Find the information collection by selecting “Currently under 30-day Review—Open for Public Comments” or by using the search function.

FOR FURTHER INFORMATION CONTACT: For specific questions or to request additional information about this ICR, contact Gwendolyn Franks at franks@udall.gov, or by telephone at 520-901-8552. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Udall Foundation, in accordance with the Paperwork Reduction Act of 1995 (PRA) (44 U.S.C. 3501 et seq.), previously provided the general public and Federal agencies with an opportunity to comment on this proposed collection of information during a 60-day period in the Federal Register, 89 FR 65679, August 12, 2024. No comments were received and therefore no changes were made based on public comment. The Udall Foundation finalized the content of the proposed ICR. The proposed ICR is necessary to improve the Udall Foundation's delivery of its services. The ICR is not expected to have a significant economic impact on respondents or to affect a substantial number of small entities. Please note that written comments received in response to this notice will be considered public records.

Title of Collection: Survey of Alumni—Eligibility Criteria.

OMB Control Number: Not Assigned.

Respondents/Affected Public: Individuals or households.

Total Estimated Number of Annual Responses: 100.

Total Estimated Number of Annual Burden Hours: 30.

Abstract: This voluntary anonymous survey collects information from Udall Foundation Scholarship, Internship, and Fellowship alumni to gather feedback from them on potential agency changes to the formulation of its eligibility criteria for certain Native American and Alaska Native award categories in the future. The survey will gather specific feedback from the alumni about their participation in the Scholarship, Internship, and/or Graduate Fellowship Programs after their award year has concluded; feedback related to the potential agency changes to eligibility criteria for Native American and Alaska Native programming; and feedback related to whether and how their level of participation in and support of the Scholarship, Internship, and Graduate Fellowship Programs is likely to change if the eligibility criteria are updated as proposed. This survey is a primary means by which the Udall Foundation will receive and evaluate such feedback from program alumni. It is not anticipated that the survey will be administered more than one time, which will be in the first quarter of calendar year 2025. (20 U.S.C. 5601-5609)

Dated: October 17, 2024.
David P. Brown,
Executive Director, Morris K. Udall and Stewart L. Udall Foundation.

[FR Doc. 2024-24461 Filed 10-21-24; 8:45 am]

BILLING CODE 6820-FN-P